DEPARTMENT OF VETERANS AFFAIRS

Advisory Committee on Homeless Veterans, Notice of Meeting

The Department of Veterans Affairs (VA) gives notice under the Federal Advisory Committee Act, 38 U.S.C. App. 2 that a meeting of the Advisory Committee on Homeless Veterans will be held September 25, 2015. On September 25, 2015 the Committee will meet via teleconference, from 1:00 p.m. to 4:00 p.m. Eastern Standard Time. The meeting will be open to the public.

The purpose of the Committee is to provide the Secretary of Veterans Affairs with an on-going assessment of the effectiveness of the policies, organizational structures, and services of VA in assisting homeless Veterans. The Committee shall assemble and review information related to the needs of homeless Veterans and provide advice on the most appropriate means of providing assistance to that subset of the Veteran population. The Committee will make recommendations to the Secretary regarding such activities.

The agenda will include the Committee beginning to finalize their site-visit agenda to Houston, Texas in October and topics for their upcoming annual report that will make recommendations to the Secretary of Veterans Affairs. No time will be allocated at this meeting for receiving oral presentations from the public. Interested parties should provide written comments on issues affecting homeless Veterans for review by the Committee to Ms. Lisa Pape, Designated Federal Officer, VHA Homeless Programs Office (10NC1), Department of Veterans Affairs, 90K NE., Washington, DC, or email to Lisa.Pape2@va.gov.

Interested persons may attend the call by dialing 1-800-767-1750. At the prompt, enter access code 96303 then press #. Attendees who require reasonable accommodation should contact Charles Selby or Timothy Underwood of the VHA Homeless Program Office by September 24, 2015, at Charles.Selby@va.gov or Timothy.Underwood@va.gov.

Dated: August 25, 2015.
Jelessa M. Burney,
Federal Advisory Committee Management Officer.

[FR Doc. 2015-21348 Filed 8-27-15; 8:45 am]

BILLING CODE P